NUCLEAR REGULATORY COMMISSION

[Docket No. 50-461; NRC-2016-0207]

Exelon Generation Company LLC; Clinton Power Station, Unit 1

AGENCY: Nuclear Regulatory Commission.

ACTION: License amendment application; withdrawal by applicant.

SUMMARY: The U.S. Nuclear Regulatory Commission (NRC) has granted the request of Exelon Generation Company, LLC (Exelon, the licensee), to withdraw its application dated July 28, 2016, for a proposed amendment to Facility Operating License No. NPF-62. The proposed amendment request would have changed the organization, staffing, and training requirements contained in Section 5.0 of the Technical Specifications after the license no longer authorizes operation of the reactor or placement or retention of fuel in the reactor pressure vessel.

ADDRESSES: Please refer to Docket ID NRC-2016-0207 when contacting the NRC about the availability of information regarding this document. You may obtain publicly-available information related to this document using any of the following methods:

• Federal Rulemaking Web site: Go to http://www.regulations.gov and search for Docket ID NRC-2016-0207. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Eva A. Brown, Office of Nuclear Reactor Regulation, U.S. Nuclear Regulatory Commission, Washington DC 20555-0001; telephone: 301-415-2315, email: Eva.Brown@nrc.gov

SUPPLEMENTARY INFORMATION: The NRC has granted the request of Exelon to withdraw its application dated July 28, 2016, as supplemented by letter dated November 4, 2016 (ADAMS Accession Nos. ML16210A300 and ML16309A013, respectively), for a proposed amendment to Facility Operating License No. NPF-62 for the Clinton Power Station, Unit 1, located in DeWitt County, Illinois. The proposed amendment request would have changed the organization, staffing, and training requirements contained in Section 5.0 of the Technical Specifications after the licensee submits both certifications in accordance with Title 10 of the Code of Federal Regulations, Sections 50.82(a)(1)(i) and 50.82(a)(1)(ii).

The Commission has previously issued a proposed finding that the amendment involves no significant hazards consideration published in the Federal Register on October 11, 2016 (81 FR 70179). However, by letter dated December 14, 2016 (ADAMS Accession No. ML16349A314), the licensee requested to withdraw the proposed amendment.

Dated at Rockville, Maryland, this 27th day of December 2016.
For the Nuclear Regulatory Commission.
John G. Lamb,
Senior Project Manager, Special Projects and Process Branch, Division of Operating Reactor Licensing, Office of Nuclear Reactor Regulation.

[FR Doc. 2017-00045 Filed 1-5-17; 8:45 am]

BILLING CODE 7590-01-P